DEPARTMENT OF HEALTH AND HUMAN SERVICES

Centers for Disease Control and Prevention

Disease, Disability, and Injury Prevention and Control Special Emphasis Panel (SEP)—PAR 15-312, State Occupational Safety and Health Surveillance Program (U60); Amended Notice of Meeting

Notice is hereby given of a change in the meeting of the Disease, Disability, and Injury Prevention and Control Special Emphasis Panel (SEP)—PAR 15-312, State Occupational Safety and Health Surveillance Program (U60); January 25-27, 2021, 8:00 a.m.-5:00 p.m., EST., in the original FRN.

Virtual meeting, which was published in the Federal Register on October 26, 2020, Volume 85, Number 207, page 67744.

The meeting is being amended to change the Funding Opportunity Announcement (FOA) number to PAR 20-312, State Occupational Safety and Health Surveillance Program (U60). The meeting is closed to the public.

FOR FURTHER INFORMATION CONTACT: Michael Goldcamp, Ph.D., Scientific Review Officer, Office of Extramural Programs, CDC, 1095 Willowdale Road, Morgantown, West Virginia 26505, Telephone (304) 285-5951; MGoldcamp@cdc.gov.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2020-24508 Filed 11-4-20; 8:45 am]

BILLING CODE 4163-18-P